DEPARTMENT OF COMMERCE

International Trade Administration

[A-570-831]

Fresh Garlic from the People's Republic of China: Extension of Time Limits for Final Results of New Shipper Reviews

AGENCY: Import Administration, International Trade Administration, Department of Commerce.

EFFECTIVE DATE: July 9, 2007.

FOR FURTHER INFORMATION CONTACT: Javier Barrientos or Irene Gorelik, AD/CVD Operations, Office 9, Import Administration, International Trade Administration, U.S. Department of Commerce, 14th Street and Constitution Avenue, NW, Washington, DC 20230; telephone: (202) 482-2243 and (202) 482-6905, respectively.

SUPPLEMENTARY INFORMATION:

Background

On April 23, 2007, the Department of Commerce (“the Department”) issued the preliminary results of these new shipper reviews. See Fresh Garlic from the People's Republic of China: Preliminary Results of New Shipper Reviews, 72 FR 21219 (April 30, 2007) (“Preliminary Results”).

Extension of Time Limits for Final Results

Section 751(a)(2)(B)(iv) of the Tariff Act of 1930, as amended (the Act), and 19 CFR 351.214(i)(1) require the Department to issue the preliminary results of a new shipper review within 180 days after the date on which the new shipper review was initiated and final results of a review within 90 days after the date on which the preliminary results were issued. The Department may, however, extend the deadline for completion of the final results of a new shipper review to 150 days if it determines that the case is extraordinarily complicated. See section 751(a)(2)(B)(iv) of the Act, and 19 CFR 351.214(i)(2).

In order to allow parties additional time to submit comments regarding the Department's Preliminary Results, the Department extended the deadline for the submission of case and rebuttal briefs. As a result of the extensions and the extraordinarily complicated issues raised in these reviews, including surrogate valuation and bona fides issues, it is not practicable to complete these new shipper reviews within the current time limit. Accordingly, the Department is extending the time limit for the completion of these final results to September 20, 2007 (150 days after issuance of the Preliminary Results), in accordance with section 751(a)(2)(B)(iv) of the Act and 19 CFR 351.214(i)(2).

We are issuing and publishing this notice in accordance with sections 751(a)(2)(B)(iv) and 777(i)(1) of the Act.

Dated: June 28, 2007.
Stephen J. Claeys,
Deputy Assistant Secretary for Import Administration.

[FR Doc. E7-13225 Filed 7-6-07; 8:45 am]

BILLING CODE 3510-DS-S